DEPARTMENT OF JUSTICE

Antitrust Division

Notice Pursuant to the National Cooperative Research and Production Act of 1993—Compressed Gas Association, Inc.

Notice is hereby given that, on September 17, 2004, pursuant to Section 6(a) of the National Cooperative Research and Production Act of 1993, 15 U.S.C. 4301 et seq. (“the Act”), Compressed Gas Association, Inc. (“CGA”) has filed written notifications simultaneously with the Attorney General and the Federal Trade Commission disclosing (1) the name and principal place of business of the standards development organization and (2) the nature and scope of its standards development activities. The notifications were filed for the purpose of invoking the Act's provisions were filed for the purpose of invoking the Act's provisions limiting the recovery of antitrust plaintiffs to actual damages under specified circumstances.

Pursuant to Section 6(b) of the Act, the name and principal place of business of the standards development organization is: Compressed Gas Association, Inc., Chantilly, VA. The nature and scope of CGA's standards development activities are: the development and promotion of standards for safe and environmentally responsible practices in the industrial and medical gas industry. More than 135 CGA member companies worldwide work together through a committee system to create technical specifications, safety standards, and training and educational materials for the manufacture, storage, transportation and distribution of industrial gases, cryogenic liquids, and related products. CGA's activities encompass industrial, medical and specialty gases in compressed or liquefied form, and a range of gas handling equipment.

Dorothy B. Fountain,
Deputy Director of Operations Antitrust Division.

[FR Doc. 04-24573 Filed 11-2-04; 8:45 am]

BILLING CODE 4410-11-M